DEPARTMENT OF LABOR

Employment and Training Administration

Investigations Regarding Certifications of Eligibility To Apply for NAFTA Transitional Adjustment Assistance

Petitions for transitional adjustment assistance under the North American Free Trade Agreement-Transitional Adjustment Assistance Implementation Act (P.L. 103-182), hereinafter called (NAFTA-TAA), have been filed with State Governors under Section 250(b)(1) of Subchapter D, Chapter 2, Title II, of the Trade Act of 1974, as amended, are identified in the Appendix to this Notice. Upon notice from a Governor that a FAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of P.L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, D.C. provided such request if filed in writing with the Director of DTAA not later than November 4, 2002.

Also, interested persons are invited to submit written comments regarding the subject matter of the petitions to the Director of DTAA at the address shown below not later than November 4, 2002.

Petitions filed with the Governors are available for inspection at the Office of the Director, DTAA, ETA, DOL, Room C-5311, 200 Constitution Avenue, NW. Washington, DC 20210.

Signed at Washington, DC this 12th day of September, 2002.
Edward A. Tomchick,
Director, Division of Trade Adjustment Assistance.

Appendix
Subject firm | Location | Date received at governor's office | Petition number | Articles produced
Savane International (Wkrs) | El Paso, TX | 08/26/2002 | NAFTA-6,481 | Cut fabrics.
Farley's and Sather Candy (Co.) | Oklahoma, OK | 08/21/2002 | NAFTA-6,482 | Candy.
Federal Mogul—North America Friction (Co.) | Brighton, MA | 08/23/2002 | NAFTA-6,483 | Friction products—brakes.
CommScope, Inc. of North (Co.) | Hickory, NC | 08/26/2002 | NAFTA-6,484 | Coxial and fiber optic.
Oshkosh B'Gosh—Miami Trim Warehouse (Co.) | Medley, FL | 08/19/2002 | NAFTA-6,485 | Trim items (zippers, buttons, thread).
Midwest Electric Products (Co.) | Mankato, MN | 08/19/2002 | NAFTA-6,486 | Service entrance models.
Disa Industries (IRW) | Holly, MI | 08/22/2002 | NAFTA-6,487 | Foundry machines.
Kimberly Clark (PACE) | Neenah, WI | 08/22/2002 | NAFTA-6,488 | Feminine care products.
Minnesota Brewing Molding (Wkrs) | St. Paul, MN | 08/22/2002 | NAFTA-6,489 | Malt beverage/beer.
IBM Corporation (Wkrs) | Essex Junction, VT | 08/22/2002 | NAFTA-6,490 | Semiconductor modules.
Hoffco—Comet Industries (Co.) | Rushville, IN | 08/21/2002 | NAFTA-6,491 | Transmission for washing machines.
Maurer Enterprises (Wkrs) | Grans Pass, OR | 08/09/2002 | NAFTA-6,492 | Wooden stakes and poles.
United Sweater Mills (Co.) | Jersey City, NJ | 08/23/2002 | NAFTA-6,493 | Sweaters.
Doncasters—Turbo Products (Wkrs) | Ivoryton, CT | 08/12/2002 | NAFTA-6,494 | Gas turbine blades.
Hasler, Inc. (Co.) | Shelton, CT | 08/12/2002 | NAFTA-6,495 | Meters.
Wyman Gordon Forgings (IAMAW) | Houston, TX | 08/21/2002 | NAFTA-6,496 | Aircraft engine components.
International Ceramic Welding (Co.) | DeMotte, IN | 08/21/2002 | NAFTA-6,497 | Refactory.
Leatherworks (UAW) | Detroit, MI | 08/20/2002 | NAFTA-6,498 | Leather sealing skins.
TreeSources Industries—Spanaway Lumber (Wkrs) | Tacoma, WA | 08/21/2002 | NAFTA-6,499 | Lumber.
Marconi (Co.) | Toccoa, GA | 08/20/2002 | NAFTA-6,500 | Telecommunication equipment.
Spectralink (Wkrs) | Boulder, CO | 08/19/2002 | NAFTA-6,501 | Cell phones.
Mo Tech (Wkrs) | Oakdale, MN | 08/20/2002 | NAFTA-6,502 | Injection molds.
Fashion Star (Wkrs) | Carrollton, GA | 08/22/2002 | NAFTA-6,503 | Ladies apparel.
Owens Brigam Medical (Co.) | Corona, CA | 07/23/2002 | NAFTA-6,504 | Injection molds.
Hudson RCI (Co.) | Temecula, CA | 08/15/2002 | NAFTA-6,505 | Plastic medical products.
Motorola (Wkrs) | Mesa, AZ | 08/26/2002 | NAFTA-6,506 | Pressure sensors.
Autoline Industries (Co.) | Argyle, WI | 08/30/2002 | NAFTA-6,507 | Calipers and distributors.
Pliant Solutions (PACE) | Fort Edward, NY | 08/23/2002 | NAFTA-6,508 | Printed pattern vinyl.
Dana Corporation (Co.) | Hastings, NE | 08/27/2002 | NAFTA-6,509 | Cylinder liners.
Northern Engraving (Wkrs) | Lansis, IA | 08/26/2002 | NAFTA-6,510 | Stamping.
NetManage (Wkrs) | Bellingham, WA | 08/28/2002 | NAFTA-6,511 | Software products.
Fishking Processors (Wkrs) | Los Angeles, CA | 08/05/2002 | NAFTA-6,512 | Fish and seafood products.
Power Technologies (Wkrs) | Erie, PA | 08/29/2002 | NAFTA-6,513 | AC and DC power distribution units.
Emgle Products (USWA) | Johnstown, PA | 08/29/2002 | NAFTA-6,514 | Hand carried and twin stack units.
Laurel Mould (Wkrs) | Greensburg, PA | 08/29/2002 | NAFTA-6,515 | Moulds for glass.
Hershey Foods (Co.) | Pennsburg, PA | 08/29/2002 | NAFTA-6,516 | Confectionery products.
Metropolitan Steel—Steelco (Wkrs) | Sinking Springs, PA | 08/29/2002 | NAFTA-6,517 | Building materials.
Johnstown Knitting Mill (Co.) | Johnstown, NY | 08/29/2002 | NAFTA-6,518 | Knitware.
Surgical Corp. of America (Co.) | Irvington, NY | 08/29/2002 | NAFTA-6,519 | Disposable medical gauze products.
Fashion Enterprise (Wkrs) | El Paso, TX | 08/29/2002 | NAFTA-6,520 | Ladies suits, pants, jackets etc.
Alcoa Badin Works (Co.) | Badin, NC | 08/29/2002 | NAFTA-6,521 | Aluminum engots, coils.
Weyerhaeuser Company (Co.) | Albany, OR | 08/28/2002 | NAFTA-6,522 | Logging.
Northern Engraving (Co.) | Holmen, WI | 09/03/2002 | NAFTA-6,523 | Decorative trim for auto, boats, etc.
Milwaukee Electric Tool (Wkrs) | Brookfield, WI | 09/03/2002 | NAFTA-6,524 | Electric power tools.
Perfection Schwank (Co.) | Wanesboro, GA | 09/05/2002 | NAFTA-6,525 | Heaters.

[FR Doc. 02-24104 Filed 9-20-02; 8:45 am]

BILLING CODE 4510-30-M